DEPARTMENT OF THE TREASURY

Agency Information Collection Activities; Proposed Collection; Comment Request; Regulation Agency Protests

AGENCY: Departmental Offices, U.S. Department of the Treasury.

ACTION: Notice.

SUMMARY: The Department of the Treasury, as part of its continuing effort to reduce paperwork and respondent burden, invites the general public and other Federal agencies to comment on the proposed information collection listed below, in accordance with the Paperwork Reduction Act of 1995.

DATES: Comments should be received on or before June 20, 2023 to be assured of consideration.

ADDRESSES: Written comments and recommendations for the proposed information collection should be sent within 30 days of publication of this notice to www.reginfo.gov/public/do/PRAMain. Find this particular information collection by selecting “Currently under 30-day Review—Open for Public Comments” or by using the search function. Copies of the submissions may be obtained from Melody Braswell by emailing PRA@treasury.gov, calling (202) 622-1035, or viewing the entire information collection request at www.reginfo.gov.

SUPPLEMENTARY INFORMATION:

Departmental Offices (DO)

Title: Regulation Agency Protests.

OMB Control Number: 1505-0107.

Type of Review: Extension without change of a currently approved collection.

Description: The Federal Acquisition Regulation (FAR); 48 CFR chapter 1 provides general procedures on handling protests submitted by contractors to Federal agencies. Treasury regulations provide detailed guidance for contractors doing business with acquisition offices within the U.S. Department of the Treasury to implement the FAR. FAR part 33.103, Protests to the agency prescribes the policies and procedures for filing protests to the agency. Information is requested of contractors so that the Government will be able to evaluate protests effectively and provide prompt resolution of issues in dispute when contractors file protests.

Form: None.

Affected Public: Businesses or other for-profits.

Estimated Number of Respondents: 5.

Frequency of Response: On occasion.

Estimated Total Number of Annual Responses: 5.

Estimated Time per Response: 2 hours.

Estimated Total Annual Burden Hours: 10.

Authority: 44 U.S.C. 3501 et seq.

Melody Braswell,
Treasury PRA Clearance Officer.

[FR Doc. 2023-10734 Filed 5-18-23; 8:45 am]

BILLING CODE 4810-AL-P>